DEPARTMENT OF DEFENSE

Office of the Secretary

[DOD-2006-OS-0150]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on July 21, 2006 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on June 14, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 15, 2006.
C.R. Choate,
Alternate, OSD Federal Register Liaison Officer, Department of Defense.

DHA14

System name:

Computer/Electronic Accommodations Program for People with Disabilities.

System Location:

Computer/Electronic Accommodations Program (CAP) Data Management System (eCMDS), 5109 Leesburg Pike, Sky 6, Suite 504, Falls Church, VA 22041-3891.

Categories of individuals covered by the system:

Prospective DoD and other Federal agency employees, current DoD and other Federal agency employees, and members of the Armed Forces.

Categories of records in the system:

Information includes but is not limited to name, address, phone number, medical and disability data, history of accommodations being sought and their disposition, and other documentation, e.g., CAP Speech Form, Telework Agreement, etc., used in support of the request for an assistive technology solution. Product and vendor contact information to include order/invoices/declination/cancellation data for the product and identification of vendors, vendor products used, and product costs.

Authority for maintenance of the system:

Rehabilitation Act of 1973, as amended; EEOC Enforcement Guidance: Reasonable Accommodation and Undue Hardship Under the Americans with Disabilities Act, March 1, 1999 and Special Work Arrangements As Accommodations for Individuals with disabilities, USD(P&R) Memorandum, February 26, 1999; E.O. 13160, 23 June 2000.

Purpose(s):

To administer the Computer/Electronic Accommodations Program, a centrally funded Federal program, which provides assistive (computer/electronic) technology solutions to individuals who have disabilities so that an accessible work environment is provided to individuals with hearing, visual, dexterity, cognitive, and/or communications impairments. The system identifies the computer/electronic accommodations being provided and tracks all such accommodations for DoD as well as 64 partner agencies.

Routine uses of records maintained in the system, including categories of users and the purpose of such uses:

In addition to those disclosures generally permitted under 5 U.S.C. 552a(b) of the Privacy Act , these records or information contained therein may specifically be disclosed outside the DoD as a routine use pursuant to U.S.C. 552a(b)(3) as follows:

To Federal agencies participating in the Computer/Electronic Accommodations Program for purposes of providing information as necessary to permit the agency to carry out its responsibilities under the program.

To commercial vendors for purposes of providing information as necessary to permit the vendor to identify and provide assistive technology solutions for individuals with disabilities.

The DoD “Blanket Routine uses” set forth at the beginning of OSD's compilation of systems of records notices apply to this system.

Policies and practices for storing, retrieving, accessing, retaining, and disposing of records in the system:

Storage:

Records are maintained on electronic storage media.

Retrievability:

Records are retrieved by employee name address, telephone, and disability information.

Safeguards:

Records are maintained in controlled areas accessible only to authorized personnel. Access to personal information is further restricted by the use of passwords. Paper records are maintained in a controlled facility where physical entry is restricted by the use of locks, guards, or administrative procedures.

Retention and disposal:

Records are destroyed 6 years, 3 months after the record is closed.

System Manager(s) and address:

Computer/Electronic Accommodations Program (CAP) Data Management System (eCMDS), 5109 Leesburg Pike, Sky 6, Suite 504, Falls Church, VA 22041-3891.

Notification procedure:

Individuals seeking to determine whether information about themselves is contained in this system should address written inquiries to the TRICARE Management Activity, Department of Defense, ATTN: TMA Privacy Officer, 5111 Leesburg Pike, Suite 810, Falls Church, VA 22041-3206.

Request should contain full name, address and telephone number.

Record access procedures:

Individuals seeking access to information about themselves contained in this system of records should address written inquiries to Computer/Electronic Accommodations Program (CAP) Data Management System (eCMDS), 5109 Leesburg Pike, Sky 6, Suite 504, Falls Church, VA 22041-3891.

Request should contain full name, address and telephone number.

Contesting record procedures:

The OSD rules for accessing records, for contesting contents and appealing initial agency determinations are contained in OSD Administrative Instruction 81; 32 CFR part 311; or may be obtained from the system manager.

Record source categories:

Information is obtained from the individual and Human Resources databases.

Exemptions claimed for the system:

None.

[FR Doc. 06-5551 Filed 6-20-06; 8:45 am]

BILLING CODE 5001-06-M